DEPARTMENT OF DEFENSE

Department of the Air Force

32 CFR Part 861

[Docket No. USAF-2019-HQ-0010]

RIN 0701-AA88

Department of Defense Commercial Air Transportation Quality and Safety Review Program

AGENCY: Department of the Air Force, Department of Defense.

ACTION: Proposed rule.

SUMMARY: The Department of the Air Force (DAF) proposes to amend portions of its regulations in order to update and clarify references and terminology relating to the Department of Defense (DOD) Commercial Air Transportation Quality and Safety Review Program. It also extends to DOD contracts for charter air transportation services the existing DOD policy prohibiting the use of foreign air carriers who are not in compliance with International Civil Aviation Organization standards.

DATES: Comments must be received by May 24, 2022.

ADDRESSES: You may submit comments, identified by docket number and or Regulation Identifier Number (RIN) and title, by any of the following methods:

• Federal Rulemaking Portal: https://www.regulations.gov. Follow the instructions for submitting comments.

• Mail: DOD cannot receive written comments at this time due to the COVID-19 pandemic. Comments should be sent electronically to the docket listed above.

Instructions: All submissions received must include the agency name and docket number or RIN for this Federal Register document. The general policy for comments and other submissions from members of the public is to make these submissions available for public viewing at https://www.regulations.gov as they are received without change, including any personal identifiers or contact information.

FOR FURTHER INFORMATION CONTACT: Matthew Berry, DOD Commercial Airlift Division, AMC/A3B, 402 Scott Drive, Unit 3A1, Scott Air Force Base, Illinois 62225-5302, (618) 229-2082, matthew.berry@us.af.mil.

SUPPLEMENTARY INFORMATION:

I. Background

The Department of Defense Commercial Air Transportation Quality and Safety Review Program establishes the safety requirements and criteria for evaluating civil air carriers, to include foreign air carriers, providing air transportation to the DOD. As stated in 32 CFR 861.6, foreign air carriers providing or seeking to provide services to DOD are subject to review and, if appropriate, approval by DOD. Application of the criteria and requirements of this rule and the degree of oversight to be exercised by DOD over a foreign air carrier depends upon the type of services performed and, in some instances, by the quality of oversight exercised by the foreign air carrier's Civilian Aviation Authority (CAA). The scope and frequency of review of any given foreign air carrier under this rule will be at the discretion of the Commercial Airlift Review Board (CARB) or higher authority. This rule was last revised on October 28, 2002 (67 FR 65698), to add § 861.7 relating to the disclosure of voluntarily provided safety-related information and to make minor administrative adjustments. DOD's internal instruction associated with this rule was last updated on May 7, 2021, as DOD Instruction (DODI) 4500.53, “DoD Commercial Air Transportation Quality and Safety Review Program” (available at https://www.esd.whs.mil/Portals/54/Documents/DD/issuances/dodi/450053p.pdf?ver=2019-02-26-144429-747).

II. Authority for This Regulatory Action

This action is authorized by 10 U.S.C. 113, 2640 and 9013. Sections 113 and 9013 contain the authority of the Secretary of Defense and the Secretary of the Air Force, respectively, to publish regulations necessary for the functioning of the Department of Defense and the Department of the Air Force. Section 2640 requires the Secretary of Defense to establish the Department of Defense Commercial Airlift Review Board; specifies minimum requirements which must be met by air carriers in order to be eligible for contracts to provide charter passenger air transportation services to the Department of Defense; and sets minimum requirements for an inspection regime. Further, section 2640 requires the Secretary of Defense to prescribe regulations to implement the requirements of section 2640. Additionally, section 2640 prescribes requirements relating to the provision, protection, and dissemination of safety-related information.

III. Summary of Proposed Changes to the Rule

The proposed revisions clarify aircrew flying a charter mission on behalf of the Department of Defense must, without exception, have a minimum of 250 hours flying time in the type of aircraft being operated. The rule also proposes to elaborate and revise several aspects of the oversight program to more closely resemble Federal Aviation Administration processes, thus reducing complexity and the need to maintain duplicative and potentially conflicting processes.

Every country has a National Aviation Authority, also known as a Civil Aviation Authority, which governs and regulates civil aviation. Each aviation authority oversees aircraft airworthiness, the licensing of pilots, air traffic controllers, flight dispatchers, and maintenance engineers, licensing of airports, and other aviation standards. The ultimate goal of these aviation authorities is aviation safety through regulation and oversight. All pilots must meet the standards of their respective countries where they fly. The regulations at 32 CFR 861.*(d) prohibit DOD personnel on official business, except for the first leg into and the last leg out of the U.S., from using foreign air carriers from countries in which the Civil Aviation Authority is not in compliance with International Civil Aviation Organization standards as determined by the International Civil Aviation Organization, or Federal Aviation Administration, or other aviation safety oversight body. This rule would extend that policy to any DOD contract for charter air transportation services with an air carrier.

Major provisions include:

(1) Amend § 861.3, “Definitions.” The term “Operational support services” in paragraph (l) is proposed to be replaced with “Other commercial air services” in order to be consistent with the statutory definition used by the Federal Aviation Administration in title 49, U.S. Code, section 40102(a)(41)(E). The substance of the definition is otherwise unchanged. This change in terminology will be made throughout part 861.

(2) Amend § 861.3, “Definitions.” The term “paratroop drops” is proposed to be deleted from the list of examples in the definition of “Air transportation” in paragraph (b), and inserted in the list of examples of “Other commercial air services” in paragraph (l). In addition, the terms “target towing”, “chaff dispensing”, and “electronic countermeasures target flights” have been deleted from the list of examples. Both changes are intended to more closely align with the statutory definitions of “air transportation” and “other commercial air services” used by the Federal Aviation Administration in title 49, U.S. Code, sections 40102(a)(5) and 40102(a)(41)(E), respectively.

(3) Amend § 861.4(e)(3)(vi), “Aircrew scheduling.” Paragraph (e)(3)(vi) currently requires the Captain and first officer flying Department of Defense charter passenger missions have at least 250 hours of combined experience in the type of aircraft being operated. However, an exception to this requirement is provided for aircraft new to the air carrier. This rule proposes to delete this exception in order to ensure aircrew flying Department of Defense charter missions have adequate experience in the type of aircraft being flown.

(4) Amend § 861.4(e)(3)(ix), “DOD charter procedures.” Paragraph (e)(3)(ix) requires an air carrier have procedures reflecting that weights and balance information are used in computing aircraft weight and balance. A sentence is proposed to be added requiring that personnel loading an aircraft be adequately trained on aircraft loading and restraint, special cargo, weight and balance, and hazardous/dangerous goods procedures. This revision would align the qualifications required for personnel loading an aircraft with recent Federal Aviation Administration cargo loading regulations and guidance in 14 CFR 121.665, 14 CFR 121.1001, Advisory Circular 120.85A and Flight Standards Information Manual System 8900.1 Volume 3, with which air carriers are already in compliance.

(5) Amend § 861.4(e)(4)(iii), “Quality assurance.” Paragraph (e)(4)(iii) addresses the requirement that an air carrier have a quality assurance program that analyzes the performance and effectiveness of maintenance activities and inspections. This requirement is alluded to in § 861.4(e)(2). This change proposes to add language making clear that the Department of Defense will expect the air carrier to audit results of the program to determine the root cause of discrepancies.

(6) Amend § 861.4(e)(4)(vi), “Maintenance control,” is proposed to be revised to require that air carriers have programs in place to adequately plan for all maintenance requirements. While planning for maintenance is inherent in maintenance control and is implied in the words “method to control maintenance activities”, this revision clarifies that formal programs are necessary and mirrors Federal Aviation Administration requirements.

(7) Amend § 861.5, “DOD Commercial Airlift Review Board procedures,” is proposed to be revised to replace “CINCTRANS” with “CDRUSTRANSCOM” wherever “CINCTRANS” appears. This reflects a change in the acronym used to refer to the Commander of the United States Transportation Command.

(8) Amend § 861.6(d), “DOD review of foreign air carriers,” is proposed to be revised to add a sentence reflecting an established, longstanding Department of Defense policy in Department of Defense Instruction 4500.53, of not contracting with foreign air carriers from countries whose Civil Aviation Authority has been determined to not meet International Civil Aviation Organization standards.

IV. Expected Impact of This Proposed Rule

Affected Population

Providers of air transportation and other commercial air services to the Department of Defense consist of approximately 100 U.S. air carriers and operators offering services under parts 105, 121, 125, 133, and 135 of the Federal Aviation Regulations (FARs) of title 14 CFR, and foreign air carriers and operators offering services under the equivalent Civil Aviation Authority regulations applicable to their operations. Both U.S. and foreign air carriers and operators range from large corporations with hundreds of aircraft, to small entities operating a handful of aircraft. Whether domestic or foreign, and regardless of size, air carriers and operators offering air transportation or other commercial air services to the Department of Defense must meet the requirements specified by law and this rule to be eligible for Department business, and must comply with the oversight requirements of the law and this rule to remain eligible for Department business. Changes proposed in this rule should not prompt air carriers or operators to either leave or join the air carrier survey and analysis program. Additionally, the proposed changes will not expand or contract carrier eligibility to participate in the program. Furthermore, the proposed changes will not impact the overall economics for carriers in the aviation industry marketplace. This proposed rule is not expected to impact on the public or state, local, or tribal governments.

Costs

This rule has been was first promulgated in 1987 (see 52 FR 37609 (October 8, 1987)). The proposed revisions are not expected to increase costs compliance. Although several revisions alter minor aspects of the existing oversight program, they are intended to streamline oversight processes by more closely aligning them with current Federal Aviation Administration guidance. This harmonization may decrease costs for U.S. carriers although these savings may not be appreciable. Operators of paratroop drop services may realize slightly more appreciable savings as a result of being considered a provider of “other commercial air services” rather than of “air transportation services,” since the latter results in an increased level of oversight. Conversely, the failure to enact the proposed changes may result in increased costs to U.S. air carriers and operators as specific requirements and procedures of this program increasingly diverge from those required by the FAA, requiring that separate compliance processes be maintained that cover the same substantive area.

Benefits

The affected air carriers and operators will benefit from the clarifications, updated information, and alignment of processes with those of the Federal Aviation Administration resulting from this proposed revision. This, in turn, should lead to a more effective safety oversight program, benefitting them, the Department of Defense, members of the armed forces transported on the contracted aircraft, and the public at large.

Alternatives

The basic parameters of the program described in this Part are specified in section 2640 of title 10, U.S. Code, and serve to limit the scope of alternatives available.

• No action: This alternative would leave the existing rule in place without change. Parts of this rule are obsolete as a result of changes in terminology, responsible offices, and the evolution of technology since 2002. No action would also result in the loss of an opportunity to incorporate lessons learned since the last revision in 2002. The rule would consequently continue to become less effective over time, as the FAA adopts updated, more stringent standards and practices that are not reflected in the DOD standards and practices reflected in this rule. This course of action is therefore not preferred.

• Expansion of the scope of the oversight program. Expansion of the scope of the oversight program would go beyond that which is necessary to ensure the safe transportation of members of the armed forces as well as beyond the scope of what the law requires. This course of action is therefore not preferred, as it would impose increased costs on the Department of Defense and all affected parties to no discernable end.

• Contracting the scope of the oversight program. Contracting the scope of the oversight program would result in a failure to do as the law requires, although it would be less burdensome and expensive for the affected parties. Consequently, this course of action is not preferred.

Regulatory Reviews

Executive Order 12866: Regulatory Planning and Review and Executive Order 13563: Improving Regulation and Regulatory Review

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This rule has been designated as a “significant regulatory action” but not economically significant under section 3(f) of Executive Order 12866.

Congressional Review Act

The Congressional Review Act, 5 U.S.C. 801 et seq. generally provides before a rule may take effect, the agency promulgating the rule must submit a rule report, which includes a copy of the rule, to each House of the Congress and to the Comptroller General of the United States. The DAF will submit a report containing this rule and other required information to the U.S. Senate, the U.S. House of Representatives, and the Comptroller General of the United States.

National Environmental Policy Act

The DAF has determined the proposed amendments of the Department of Defense Commercial Air Transportation Quality and Safety Review Program is not a major federal action within the meaning of the National Environmental Policy Act of 1969 (42 U.S.C. 4321 et seq.). The proposed amendments do not result in any impacts to human health or the environment.

Paperwork Reduction Act

It has been determined this regulatory action does not impose reporting or recordkeeping requirements under the Paperwork Reduction Act (44 U.S.C. 3501 et seq.).

Regulatory Flexibility Act

The DAF has certified this regulatory action is not subject to the relevant provisions of the Regulatory Flexibility Act of 1980 (5 U.S.C. 605(b)). The Secretary of the Air Force has certified that this rule is exempt from the requirements of the Regulatory Flexibility Act, 5 U.S.C. 601 to 612, because this rule does not have a significant economic impact on small entities as defined by the Act, and does not impose any obligatory information requirements beyond internal DAF use.

Unfunded Mandates Reform Act (UMRA)

Section 202 of the Unfunded Mandates Reform Act of 1995 (UMRA) (2 U.S.C. 1532) requires agencies to assess anticipated costs and benefits before issuing any rule whose mandates require spending in any one year of $100 million in 1995 dollars, updated annually for inflation. This regulatory action does not contain any unfunded mandate as described in UMRA, and does not significantly or uniquely affect small governments. This action only addresses the Department of Defense Commercial Air Transportation Quality and Safety Review Program.

Executive Order 13132: Federalism

Executive Order 13132 establishes certain requirements an agency must meet when it promulgates a proposed rule (and subsequent final rule) that imposes substantial direct requirement costs on State and local governments, preempts State law, or otherwise has federalism implications. The DAF has determined this regulatory action does not contain policies with federalism as that term is defined in E.O. 13132.

List of Subjects in 32 CFR Part 861

Administrative practice and procedure, Air carriers, Aviation safety, Military air transportation.

Accordingly, 32 CFR part 861 is proposed to be amended as follows:

PART 861—DEPARTMENT OF DEFENSE COMMERCIAL AIR TRANSPORTATION QUALITY AND SAFETY REVIEW PROGRAM

1. The authority citation for part 861 is revised to read as follows:

Authority: 10 U.S.C. 113, 2640, 9013.

§ 861.1 [Amended]

2. Amend § 861.1(b) by removing the word “Directive” and adding in its place the word “Instruction”.

§ 861.2 [Amended]

3. Amend § 861.2 by:

a. Removing the word “Directive” and adding in its place the word “Instruction”.

b. Removing the words “Commander-in-Chief (CINC)” and adding in their place “Commander”.

c. Removing the word “USTRANSCOM” and adding in its place the word “CDRUSTRANSCOM”.

d. Removing the words “the CINC” and adding in their place the words “the CDRUSTRANSCOM”.

4. Amend § 861.3 by:

a. In paragraph (b), removing the words “paratrooper drops”.

b. In paragraph (f)(3), removing the words “Commander-in-Chief” and adding “Commander” in their place and removing “, or USCINCTRANS”.

c. Revising paragraphs (f)(4) and (l).

The revisions read as follows:

§ 861.3 Definitions.

* * * * *

(f) * * *

(4) Secretary of Defense.

* * * * *

(l) Other commercial air services. Flights performed by air carriers that use fixed or rotary-winged aircraft to provide services other than air transportation services as defined in paragraph (b) of this section. Examples include, but are not limited to, paratroop drops, range instrumentation and services, and sling loads. Air carriers providing only other commercial air services do not require advance DOD approval and are not subject to the initial or periodic on-site survey requirements under this part, unless specified in paragraph (b) or directed by the CARB or higher authority. All air carriers providing other commercial air services to DOD must have a FAA or CAA certificate and are required to maintain applicable FAA or CAA standards absent deviation authority obtained pursuant to 14 CFR 119.55 or similar CAA rules.

* * * * *

5. Amend § 861.4 by:

a. In paragraph (b)(3), adding the words “as specified in the reference in § 861.1(b) or” after the words “this part may,”.

b. In paragraph (c)(2), removing the letters “DOB” and adding in their place “A3B”.

c. In paragraph (e)(1)(ii), removing “FAA part 121, 125, 127, or 135 (14 CFR 121, 125, 127, or 135)” and adding in its place “FAA part 121 or 135 (14 CFR part 121 or 135)”.

d. In paragraph (e)(1)(iii):

i. In Example 1, removing “DC-10” wherever it appears and adding in its place “B-767”.

ii. In Example 2:

A. Removing “MD-11” wherever it appears and adding in its place “B-767”; and

B. Removing “B-757” wherever it appears and adding in its place “A-330”.

e. Revising the final sentence of paragraph (e)(3)(iv).

f. Revising paragraph (e)(3)(vi).

g. In paragraph (e)(3)(viii), adding a sentence at the end of the paragraph.

h. In paragraph (e)(3)(ix), adding a sentence at the end of the paragraph.

i. Revising paragraph (e)(4).

The revisions and additions read as follows:

§ 861.4 DOD air transportation quality and safety requirements.

* * * * *

(e) * * *

(3) * * *

(iv) * * * Training received is documented, and established processes ensure that documentation is maintained in a current status.

* * * * *

(vi) Aircrew scheduling. A closely monitored system that evaluates operational risks, experience levels of crewmembers, and ensures the proper pairing and qualification of aircrews on all flights is required. New captains are scheduled with highly experienced first officers, and new or low-time first officers are scheduled with experienced captains. Captains and first officers assigned to DOD charter passenger missions possess at least 250 hours combined experience in the type aircraft being operated. The scheduling system involves an established flight duty time program for aircrews, including flight attendants, carefully managed so as to ensure proper crew rest and considers quality-of-life factors. Attention is given to the stress on aircrews during strikes, mergers, or periods of labor-management difficulties.

* * * * *

(viii) * * * Personnel assigned these duties are properly trained and certificated if required.

(ix) * * * Personnel responsible for the loading of aircraft receive appropriate initial and recurrent training on aircraft loading and restraint, special cargo, weight and balance, and hazardous/dangerous goods procedures.

* * * * *

(4) Quality and safety requirements—maintenance—(i) Management. Maintenance supervisors ensure all personnel understand that in spite of scheduling pressure, peer pressure, supervisory pressure, or other factors, the airplane must be airworthy prior to flight. Passenger and employee safety is a paramount management concern. Quality, completeness, and integrity of work are trademarks of the maintenance manager and maintenance department. Nonconformance to established maintenance practices is not tolerated. Management ensures contracted maintenance, including repair and overhaul facilities, is performed by maintenance organizations acceptable to the CAA.

(ii) Maintenance personnel. Air carriers are expected to hire and train the number of employees required to safely maintain the company aircraft and support the scope of the maintenance operations both at home station (the company's primary facility) and at en route locations. These personnel ensure that all maintenance tasks, including required inspections and airworthiness directives, are performed; that maintenance actions are properly documented, and that the discrepancies identified between inspections are corrected. Mechanics are fit for duty, properly certificated, the company verifies certification, and these personnel possess the knowledge and the necessary aircraft-specific experience to accomplish the maintenance tasks. Noncertified and inexperienced personnel received proper supervision. Freedom from alcohol abuse and illegal drugs is required.

(iii) Quality assurance. A system which continuously analyzes the performance and effectiveness of maintenance activities and maintenance inspection programs is required. This system evaluates such functions as reliability reports, audits, component tear-down reports, inspection procedures and results, tool calibration program, real-time aircraft maintenance actions, warranty programs, and other maintenance functions. The extent of this program is directly related to the air carrier's size and scope of operation. Audit results are analyzed in order to determine the root cause of discrepancies. The cause of any recurring discrepancy or negative trend is researched and eliminated. Action is taken to prevent recurrence of these discrepancies and preventive actions are monitored to ensure effectiveness. The results of preventive actions are provided to appropriate maintenance technicians. Also required is a system to evaluate contract vendors, suppliers, and their products.

(iv) Maintenance inspection activity. A process to ensure required aircraft inspections are completed and the results properly documented is required. Inspection personnel are identified, trained (initial and recurrent), and provided guidance regarding inspector responsibility and authority. The inspection activity is normally a separate entity within the maintenance department.

(v) Maintenance training. Training is conducted commensurate with the size and type of maintenance functions being performed. Continuing education and progressive experience are provided for all maintenance personnel. Orientation, familiarization, on-the-job, and appropriate recurrent training for all full and part-time personnel are expected. The use of such training aids as mockups, simulators, and computer-based training enhances maintenance training efforts and is desired. Training documentation is required; it is current, complete, well maintained, and correctly identifies any special authorization such as inspection and airworthiness release. Trainers are fully qualified in the subject manner.

(vi) Maintenance control/planning. A method to control maintenance activities, track program requirements, and track aircraft status is required. Qualified personnel monitor maintenance preplanning, ensure completion of maintenance actions, and track deferred discrepancies. Deferred maintenance actions are identified to supervisory personnel and corrected in accordance with the criteria provided by the manufacturer or regulatory agency. Constant and effective communications between maintenance and flight operations ensure an exchange of critical information. In addition, programs are in place that adequately plan for all maintenance requirements.

(vii) Aircraft maintenance program. Aircraft are properly certified and maintained in a manner that ensures they are airworthy and safe. The program includes the use of manufacturer's and CAA information, as well as company policies and procedures. Airworthiness directives are complied with in the prescribed time frame, and service bulletins are evaluated for applicable action. Approved reliability programs are proactive, providing management with visibly on the effectiveness of the maintenance program; attention is given to initial component and older aircraft inspection intervals and to deferred maintenance actions.

(viii) Maintenance records. Maintenance actions are well documented and provide a complete record of maintenance accomplished and maintenance required. Such records as aircraft log books and maintenance documentation are legible, dated, clean, readily identifiable, and maintained in an orderly fashion. Inspection compliance, airworthiness release, and maintenance release records, etc., are completed and signed by approved personnel.

(ix) Aircraft appearance. Aircraft exteriors, including all visible surfaces and components, are clean and well maintained. Interiors are also clean and orderly. Required safety equipment and systems are available and operable.

(x) Fueling and servicing. Aircraft fuel is free from contamination, and company fuel facilities (farms) are inspected and results documented. Procedures and instructions pertaining to servicing, handling, and storing fuel and oil meet established safety standards. Procedures for monitoring and verifying vendor servicing practices are included in this program.

(xi) Maintenance manuals. Company policy manuals and manufacturer's maintenance manuals are current, available, clear, complete, and adhered to by maintenance personnel. These manuals provide maintenance personnel with standardized procedures for maintaining company aircraft. Management policies, lines of authority, and company maintenance procedures are documented in company manuals and kept in a current status.

(xii) Maintenance facilities/stores. Well maintained, clean maintenance facilities, adequate for the level of aircraft repair authorized in the company's CAA certificate are expected. Safety equipment is available in hangars, shops, etc., and is serviceable. Special tools and equipment are properly calibrated and managed. Shipping, receiving, and stores areas are likewise clean and orderly. Parts are correctly packaged, tagged, segregated, and shelf life properly monitored.

* * * * *

§ 861.5 [Amended]

6. Amend § 861.5 by:

b. In paragraph (b), adding the words “as specified in the reference in § 861.1(b) or” after the words “services to DOD which,”.

b. In paragraphs (f)(1) and (3) and (g)(4)(i), removing the word “USCINCTRANS” and adding in its place the words “the CDRUSTRANSCOM”.

c. In paragraph (g)(5), removing “USCINCTRANS” and “(Acquisition, Technology and Logistics) (USD(AT&L))” and adding “the CDRUSTRANSCOM” and “(Acquisition and Sustainment) (USD(A&S))” in their places, respectively.

7. Amend § 861.6 by revising paragraph (d) to read as follows:

§ 861.6 DOD review of foreign air carriers.

* * * * *

(d) Foreign air carriers from countries in which the CAA is not in compliance with ICAO standards. DOD will not contract for charter air transportation services with an air carrier from a country in which the CAA is not in compliance with ICAO standards. Unless otherwise authorized, use of foreign air carriers by DOD personnel on official business from countries in which the CAA is not in compliance with ICAO standards is prohibited except for the last leg into and the first leg out of the U.S. on such carriers. This includes foreign air carriers performing any portion of a route awarded to a U.S. air carrier under the GSA City Pair Program pursuant to a code-sharing agreement with that U.S. air carrier.

* * * * *

§ § 861.2, 861.3, 861.4, 861.5, and 861.6 [Amended]

8. In addition to the amendments set forth above, in 32 CFR part 861, remove the words “operational support” and add in their place the words “other commercial air” in the following places:

a. Section 861.2 (2 places);

b. Section 861.3(a), (e) and (l)-(2 places);

c. Section 861.4(a)-(2 places), (b)(3), (c)(3), and (d);

d. Section 861.5(b), (e), (g)(2)(v) and (g)(5); and

e. Section 861.6(f).

§ § 861.3, 861.4, and 861.5 [Amended]

9. In addition to the amendments set forth above, in 32 CFR part 861, remove the words “Air Carrier Survey and Analysis Office” and add in their place the words “Commercial Airlift Division” in the following places:

a. Section 861.3(e), (f)(1), and (k);

b. Section 861.4(c)(2); and (e)

c. Section 861.5(e), (g)(2)(i), (g)(2)(iii)(A), and (g)(4)(i).

d. Section 861.6(c)

Adriane S. Paris,
Department of the Air Force Federal Register Liaison Officer.

[FR Doc. 2022-05715 Filed 3-24-22; 8:45 am]

BILLING CODE 5001-10-P